DEPARTMENT OF COMMERCE

National Oceanic and Atmospheric Administration

RIN 0648-XQ09

Marine Mammals; File No. 774-1847

AGENCY: National Marine Fisheries Service (NMFS), National Oceanic and Atmospheric Administration (NOAA), Commerce.

ACTION: Notice; receipt of application for an amendment

SUMMARY: Notice is hereby given that NMFS Southwest Fisheries Science Center, Antarctic Marine Living Resources Program (Michael Gobel, Ph D, Principal Investigator), 3333 N Torrey Pines Ct, La Jolla, CA 92037, has requested an amendment to scientific research Permit No. 774-1847-03.

DATES: Written, telefaxed, or e-mail comments must be received on or before July 31, 2009.

ADDRESSES: The application and related documents are available for review by selecting “Records Open for Public Comment” from the Features box on the Applications and Permits for Protected Species (APPS) home page, https://apps.nmfs.noaa.gov, and then selecting File No. 774-1847-04 from the list of available applications.

These documents are also available upon written request or by appointment in the following office(s):

Permits, Conservation and Education Division, Office of Protected Resources, NMFS, 1315 East-West Highway, Room 13705, Silver Spring, MD 20910; phone (301) 713-2289; fax (301) 427-2521.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 774-1847-04.

FOR FURTHER INFORMATION CONTACT: Kate Swails or Tammy Adams, (301)713-2289.

SUPPLEMENTARY INFORMATION: The subject amendment to Permit No. 774-1847-03, is requested under the authority of the Marine Mammal Protection Act of 1972, as amended (MMPA; 16 U.S.C. 1361 et seq.), and the regulations governing the taking and importing of marine mammals (50 CFR part 216).

Permit No. 774-1847-03, issued on August 14, 2008 (73 FR 49648) authorizes the applicant to take up to 710 Antarctic fur seals (Arctophalus gazella), 20 leopard seals (Hydrurga leptonyx), and 180 southern elephant seals (Mirounga leonina) annually in Antarctica.. The animals are captured, measured, weighed, tagged, blood sampled, vibrissae collected, and have time-depth recorders, VHF transmitters, and platform terminal transmitters attached. A subset of seals are given an enema, have a tooth extracted, milk sampled, blubber/muscle sampled, tissue sampled, and are part of a doubly-labeled water study on energetics.

The Permit Holder requests authorization to begin a Weddell seal (Leptonychotes weddellii) study to understand movements, site fidelity, and demographics of this species in Antarctica. Up to 60 Weddell seals would be taken annually. Seals would be instrumented and sampled (blood, vibrissae, muscle/blubber, milk, and tissue). The applicant is requesting up to 4 research-related mortalities of Weddell seals (2 adults and 2 juveniles) annually. The applicant also requests authorization to deploy microprocessors attached to flipper tags on fur seals, increase the number of tissue samples collected from fur seals, increase the number of leopard seals and fur seals tagged (for the purposes of retagging), and use an unmanned aircraft system for aerial photography. These activities are proposed for the duration of the permit, which expires on September 30, 2011.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: June 25, 2009.
P. Michael Payne,
Chief, Permits, Conservation and Education Division, Office of Protected Resources, National Marine Fisheries Service.

[FR Doc. E9-15550 Filed 6-30-09; 8:45 am]

BILLING CODE 3510-22-S